DEPARTMENT OF JUSTICE

Agency Information Collection Activities; Proposed eCollection eComments Requested; Extension of a Currently Approved Collection; Correction

AGENCY: Office of Violence Against Women, Department of Justice.

ACTION: Notice; correction.

SUMMARY: The Office of Violence Against Women, Department of Justice, submitted two notices for publication in the Federal Register on July 30, 2021 soliciting comments to an information collection request to the Office of Management and Budget (OMB) for review and approval in accordance with the Paperwork Reduction Act of 1995. The document contained incorrect information.

FOR FURTHER INFORMATION CONTACT: Written comments and/or suggestion regarding the items contained in this notice, especially the estimated public burden and associated response time, should be directed to Cathy Poston, Office on Violence Against Women, at 202-514-5430 or Catherine.poston@usdoj.gov.

SUPPLEMENTARY INFORMATION: Corrections: In the Federal Register of July 30, 2021, in FR Doc. 2021-16313, on page 41093, in the second column, correct the Action caption to read: 30-Day notice and correct the Dates caption to read: Comments are encouraged and will be accepted for 30 days until August 30, 2021.

In the Federal Register of July 30, 2021, in FR Doc. 2021-16312, on page 41094, in the third column, correct the Action caption to read: 30-Day notice and correct the Dates caption to read: Comments are encouraged and will be accepted for 30 days until August 30, 2021.

Dated: August 9, 2021.
Melody Braswell,
Department Clearance Officer for PRA, U.S. Department of Justice.

[FR Doc. 2021-17297 Filed 8-12-21; 8:45 am]

BILLING CODE 4410-FX-P